DEPARTMENT OF HOMELAND SECURITY

Federal Emergency Management Agency

[Docket ID: FEMA-2020-0029; OMB No. 1660-0142]

Agency Information Collection Activities: Proposed Collection; Comment Request; Survivor Sheltering Assessment

AGENCY: Federal Emergency Management Agency, DHS.

ACTION: Notice and request for comments.

SUMMARY: The Federal Emergency Management Agency, as part of its continuing effort to reduce paperwork and respondent burden, invites the general public to take this opportunity to comment on a revision of a currently approved information collection. In accordance with the Paperwork Reduction Act of 1995, this notice seeks comments concerning the revision of the collection Survivor Sheltering Assessment to include an alternate streamlined form and exchange of information process with the state, tribal, and territorial (STT) governments.

DATES: Comments must be submitted on or before February 9, 2021.

ADDRESSES: To avoid duplicate submissions to the docket, please use the following means to submit comments:

Online. Submit comments at www.regulations.gov under Docket ID FEMA-2020-0029. Follow the instructions for submitting comments.

All submissions received must include the agency name and Docket ID. Regardless of the method used for submitting comments or material, all submissions will be posted, without change, to the Federal eRulemaking Portal at http://www.regulations.gov, and will include any personal information you provide. Therefore, submitting this information makes it public. You may wish to read the Privacy and Security Notice that is available via the link on the homepage of www.regulations.gov.

FOR FURTHER INFORMATION CONTACT: Christopher Shoup, Privacy Project Lead, Reporting & Analytics Division, FEMA Recovery Directorate; christopher.shoup@fema.dhs.gov, 202.733.7544. You may contact the Information Management Division for copies of the proposed collection of information at email address: FEMA-Information-Collections-Management@fema.dhs.gov.

SUPPLEMENTARY INFORMATION: FEMA Emergency Non-Congregate Sheltering during the COVID-19 Public Health Emergency (Interim) FP 104-009-18. This policy defines the framework, policy details, and requirements for determining eligible work and costs for sheltering in response to declarations as defined in the Robert T. Stafford Act for PA or the Fire Management Assistance Grant (FMAG) programs. FEMA provides Public Assistance (PA) funding to state, tribal, and territorial (STT) governments (aka PA Applicants) for costs related to emergency sheltering for survivors. Typically, sheltering occurs in facilities with large open spaces, such as schools, churches, community centers, armories, or other similar facilities rather than in non-congregate environments, which are locations where each individual or household has living space that offers some level of privacy (e.g., hotels, motels, casinos, dormitories, retreat camps, etc.). However, FEMA recognizes that sheltering operations during the COVID-19 Public Health Emergency may require STT's to consider additional strategies to ensure that survivors are sheltered in a manner that does not increase the risk of exposure to or further transmission of COVID-19. FEMA will provide flexibility to STTs to take measures to safely conduct non-congregate sheltering activities. FEMA will encourage STTs operating non-congregate shelters to collect basic shelter resident data. If there is a subsequent Major Disaster Declaration that includes the Individual Assistance (IA) program, FEMA and STTs may begin a bi-lateral exchange of data to coordinate and expedite assistance to shelter residents. This data exchange will enable FEMA to share additional disaster survivor data on losses and needs to STT shelter managers facilitating a coordinated effort to provide resources to shelter residents. This data also provides STTs increased ability for shelter planning and shelter population management.

Collection of Information

Title: Survivor Sheltering Assessment.

Type of Information Collection: Revision of a currently approved information collection.

OMB Number: 1660-0142.

FEMA Forms: FEMA Form 009-0-42, Survivor Sheltering Assessment; FEMA Form 009-0-42AV, Survivor Sheltering Assessment-Alternate Version.

Abstract: FEMA will encourage state, tribal, and territorial (STT) governments operating non-congregate shelters to collect basic shelter resident data. If there is a subsequent Major Disaster Declaration that includes the Individual Assistance (IA) program, FEMA and STTs may begin a bi-lateral exchange of data to coordinate and expedite assistance to shelter residents. This data exchange will enable FEMA to share additional disaster survivor data on losses and needs to STT shelter managers facilitating a coordinated effort to provide resources to shelter residents. This data also provides STTs increased ability for shelter planning and shelter population management.

Affected Public: Individuals or Households, State, Tribal or Territorial Government.

Estimated Number of Respondents: 51,200.

Estimated Number of Responses: 51,200.

Estimated Total Annual Burden Hours: 8,535.

Estimated Total Annual Respondent Cost: $320,489.

Estimated Respondents' Operation and Maintenance Costs: N/A.

Estimated Respondents' Capital and Start-Up Costs: N/A.

Estimated Total Annual Cost to the Federal Government: $306,276

Comments

Comments may be submitted as indicated in the ADDRESSES caption above. Comments are solicited to: (a) Evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Maile Arthur,
Acting Records Management Branch Chief, Office of the Chief Administrative Officer, Mission Support, Federal Emergency Management Agency, Department of Homeland Security.

[FR Doc. 2020-27355 Filed 12-10-20; 8:45 am]

BILLING CODE 9111-23-P